DEPARTMENT OF THE INTERIOR

Bureau of Land Management

[WO-260-09-1060-00-24 1A]

Notice of Extension for the Call for Nominations for the Wild Horse and Burro Advisory Board

AGENCY: Bureau of Land Management, Interior.

ACTION: Notice of Extension.

SUMMARY: The purpose of this notice is to extend the submission date to solicit nominations for the Wild Horse and Burro Advisory Board. The Federal Register notice for nominations published in the Federal Register on September 17, 2007 [72 FR 52906].

DATES: This notice extends the date to December 7, 2007.

ADDRESSES: The nominations should be submitted to the National Wild Horse and Burro Program, Bureau of Land Management, Department of Interior, P.O. Box 12000, Reno, Nevada 89520-0006, Attn: Ramona DeLorme: fax (775) 861-6711.

FOR FURTHER INFORMATION CONTACT: Don Glenn, Acting Division Chief, Wild Horse and Burro Group, (202) 452-5082. Individuals who use a telecommunications device for the deaf (TDD) may reach Ms. DeLorme at any time by calling the Federal Information Relay Service at 1 (800) 877-8339.

Dated: October 30, 2007.
Bud Cribley,
Deputy Assistant Director, Renewable Resources and Planning.

[FR Doc. E7-21887 Filed 11-6-07; 8:45 am]

BILLING CODE 4310-84-P